DEPARTMENT OF ENERGY

Federal Energy Regulatory Commission

[Docket No. RP02-36-000]

Texas Eastern Transmission, LP; Notice of Proposed Changes in FERC Gas Tariff

November 6, 2001.

Take notice that on October 31, 2001, Texas Eastern Transmission, LP (Texas Eastern) tendered for filing as part of its FERC Gas Tariff, Seventh Revised Volume No. 1 and First Revised Volume No. 2, revised tariff sheets listed on Appendix A to the filing, to become effective December 1, 2001.

Texas Eastern states that the revised tariff sheets and the reconciliation report submitted are being filed (i) pursuant to section 15.6, Applicable Shrinkage Adjustment (ASA), and section 15.8, Periodic Reports, contained in the General Terms and Conditions of Texas Eastern's FERC Gas Tariff, Seventh Revised Volume No. 1, (ii) in compliance with the Stipulation and Agreement (Global Settlement) approved by the Commission in its order issued May 2, 1994 [67 FERC ¶ 61,170, reh'g denied, 68 FERC ¶ 61,062 (1994)], and (iii) in compliance with the Joint Stipulation and Agreement Amending Global Settlement (Amended Global Settlement) approved by the Commission in its order issued August 28, 1998 [84 FERC ¶ 61,200 (1998)].

Texas Eastern states that the combined impact on Texas Eastern's rates at December 1, 2001 of this filing with the Annual PCB-Related Costs filing being filed concurrently herewith to be effective December 1, 2001 equates to an overall decrease of 0.68 cents for typical long-haul service under Rate Schedule FT-1 from Access Area Zone East Louisiana to Market Zone 3 (ELA-M3) as follows:

| 100% LF Impact ($/dth)
Rate Impact:
PCB-Related Costs Filing | 0.0024
ASA Surcharge | (0.0095)
Total | (0.0071)
Fuel Retention Impact:
Annual Avg. Percentage Increase—0.01%
Rate Equivalent at P.I.R. A. projected price of $3.22/dth | $0.003
Net Decrease | $(0.0068)

Texas Eastern states that by this filing it is (1) providing its final report on recovery of Order No. 636 transition costs and returning to its customers the excess collection of Non-Spot Costs, by crediting the ASA Deferred Account for $496,271; (2) providing its Annual Interruptible Revenue Reconciliation Report under the Amended Global Settlement which reflects a credit to the ASA Deferred Account of $207,462, which is 90% of the amount of interruptible revenue in excess of the revenue threshold contemplated by the Amended Global Settlement; (3) reducing by approximately 30% the level of its ASA Surcharges included in rates pursuant to an Interim ASA filing accepted by Commission orders issued May 25, 2001 [95 FERC ¶ 61,267 (2001)] and October 15, 2001[97 FERC ¶ 61,059 (2001)] and (4) reflecting minor changes in its ASA percentages, which are designed to retain in-kind the projected quantities of gas required for the operation of Texas Eastern's system in providing service to its customers for the twelve month period beginning December 1, 2001.

Texas Eastern states that copies of its filing have been mailed to all affected customers of Texas Eastern and interested state commissions, as well as all parties to the Settlement in Docket No. RP85-177-119, et al.

Any person desiring to be heard or to protest said filing should file a motion to intervene or a protest with the Federal Energy Regulatory Commission, 888 First Street, NE., Washington, DC 20426, in accordance with sections 385.214 or 385.211 of the Commission's Rules and Regulations. All such motions or protests must be filed in accordance with Section 154.210 of the Commission's Regulations. Protests will be considered by the Commission in determining the appropriate action to be taken, but will not serve to make protestants parties to the proceedings. Any person wishing to become a party must file a motion to intervene. Copies of this filing are on file with the Commission and are available for public inspection. This filing may also be viewed on the web at http://www.ferc.gov using the “RIMS” link, select “Docket#” and follow the instructions (call 202-208-2222 for assistance). Comments, protests and interventions may be filed electronically via the Internet in lieu of paper. See, 18 CFR 385.2001(a)(1)(iii) and the instructions on the Commission's web site under the “e-Filing” link.

David P. Boergers,
Secretary.

[FR Doc. 01-28294 Filed 11-9-01; 8:45 am]

BILLING CODE 6717-01-P